DEPARTMENT OF VETERANS AFFAIRS

[OMB Control No. 2900-0222]

Agency Information Collection Activities; Withdrawal

AGENCY: National Cemetery Administration, Department of Veterans Affairs.

ACTION: Notice; correction.

SUMMARY: On Wednesday, May 17, 2017 the Department of Veterans Affairs (VA) published an information collection notice, entitled Claim for Standard Government Headstone or Marker and Claim for Government Medallion for Placement in a Private Cemetery in the Federal Register that contained a 30-day public comment period. This document withdraws that notice.

DATES: The notice published May 17, 2017, at 82 FR 22724 is hereby withdrawn as of June 16, 2017.

FOR FURTHER INFORMATION CONTACT: Cynthia Harvey-Pryor, Enterprise Records Service (005R1B), Department of Veterans Affairs, 810 Vermont Avenue NW., Washington, DC 20420, at 202-461-5870.

SUPPLEMENTARY INFORMATION: The Department of Veterans Affairs wishes to inform the public it is withdrawing FR Doc. 2017-09946, published on Wednesday, May 17, 2017, 82 FR 22724. This notice was published in error, which produced a premature end date of June 16, 2017 for public comments. A revised 30-day Federal Register Notice for 2900-0222 has been submitted for publication, with the appropriate end date in July 2017.

Dated: June 12, 2017.
By direction of the Secretary.
Cynthia Harvey-Pryor,
Department Clearance Officer, Enterprise Records Service, Office of Quality and Compliance, Department of Veterans Affairs.

[FR Doc. 2017-12401 Filed 6-15-17; 8:45 am]

BILLING CODE 8320-01-P